ENVIRONMENTAL PROTECTION AGENCY

[EPA-HQ-OW-2019-0415; FRL-10002-36-OW]

Water Quality Trading Under the National Pollutant Discharge Elimination System Program; Extension of Comment Period

AGENCY: Environmental Protection Agency (EPA).

ACTION: Notification, request for comment; extension of comment period.

SUMMARY: The Environmental Protection Agency (EPA) issued a document in the Federal Register of September 19, 2019, requesting comments on policy approaches for addressing “baseline” issues in the watersheds with EPA-approved Total Maximum Daily Loads (TMDLs) where policy makers would like to pursue water quality trading as a regulatory option for National Pollutant Discharge Elimination System (NPDES) permit compliance. These policy approaches may also be of interest to stakeholders pursuing market-based water quality improvement programs outside of the NPDES permit program. This document extends the comment period for an additional 30 days, from November 18, 2019 to December 18, 2019 in response to a stakeholder request.

DATES: The comment period for the document published on September 19, 2019 (84 FR 49293), is extended. Comments, identified by docket identification (ID) number EPA-HQ-OW-2019-0415, must be received on or before December 18, 2019.

ADDRESSES: Submit your comments, identified by Docket ID No. EPA-HQ- OW-2019-0415, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Amelia Letnes, Office of Wastewater Management, Water Permits Division, Mail Code 4203M, Environmental Protection Agency, 1200 Pennsylvania Ave. NW, Washington, DC 20460; telephone number: (202) 564-5627; email address: letnes.amelia@epa.gov.

SUPPLEMENTARY INFORMATION: On September 19, 2019, EPA published in the Federal Register (84 FR 49293) proposed changes and clarifications to its Water Quality Trading Policy of 2003. These policy changes and clarifications are intended to increase flexibility and efficiency in state water quality trading programs, specifically in the area of establishing baselines for nonpoint sources subject to a Total Maximum Daily Load (TMDL).

The document, as initially published in the Federal Register, provided for written comments to be submitted to EPA on or before November 18, 2019 (a 60-day public comment period). Since publication, EPA has received a request for additional time to submit comments. EPA is extending the public comment period for 30 days until December 18, 2019.

Dated: November 14, 2019.
Andrew D. Sawyers,
Director, Office of Wastewater Management, Office of Water.

[FR Doc. 2019-25060 Filed 11-14-19; 4:15 pm]

BILLING CODE 6560-50-P